NATIONAL AERONAUTICS AND SPACE ADMINISTRATION

14 CFR Part 1204

[Document Number NASA-21-052; Docket Number-NASA-2021-0004]

RIN 2700-AE53

Use of NASA Airfield Facilities by Aircraft Not Operated for the Benefit of the Federal Government

AGENCY: National Aeronautics and Space Administration (NASA).

ACTION: Direct final rule.

SUMMARY: This direct final rule makes non-substantive changes to update the list of available airport facilities.

DATES: This direct final rule is effective on November 9, 2021. Comments due on or before October 12, 2021. If adverse comments are received, NASA will publish a timely withdrawal of the rule in the Federal Register.

ADDRESSES: Comments must be identified with RINs 2700-AE53 and may be sent to NASA via the Federal E-Rulemaking Portal: http://www.regulations.gov. Follow the online instructions for submitting comments. Please note that NASA will post all comments on the internet with changes, including any personal information provided.

FOR FURTHER INFORMATION CONTACT: Daniela Cruzado, 202-358-1173.

SUPPLEMENTARY INFORMATION:

Direct Final Rule and Significant Adverse Comments

NASA has determined this rulemaking meets the criteria for a direct final rule because it makes non-substantive changes to provide updated available NASA airfield facilities. No opposition to the changes and no significant adverse comments are expected. However, if NASA receives significant adverse comments, it will withdraw this direct final rule by publishing a notification in the Federal Register. A significant adverse comment is one that explains: (1) Why the direct final rule is inappropriate, including challenges to the rule's underlying premise or approach; or (2) why the direct final rule will be ineffective or unacceptable without a change. In determining whether a comment necessitates withdrawal of this direct final rule, NASA will consider whether it warrants a substantive response in a notice and comment process.

Background

Subpart 14 of part 1204, promulgated July 29, 1991 [56 FR 35812], establishes the responsibilities, conditions, and procedures for the use of NASA airfield facilities by aircrafts not operated for the benefit of the Federal Government. Sections 1204.1401, 1204.1403, 1204.1404, and 1204.1405 will be amended to update the list of available NASA airfield facilities.

Statutory Authority

The National Aeronautics and Space Act (the Space Act), 51 U.S.C. 20113 (a), authorizes the Administrator of NASA to make, promulgate, issue, rescind, and amend rules and regulations governing the manner of its operations and the exercise of the powers vested in it by law.

Regulatory Analysis

Executive Order 12866, Regulatory Planning and Review and Executive Order 13563, Improvement Regulation and Regulation Review

Executive Orders (E.O.) 13563 and 12866 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This rule has been designated as “not significant” under section 3(f) of E.O. 12866.

Review Under the Regulatory Flexibility Act

The Regulatory Flexibility Act (5 U.S.C. 601 et seq.) requires an agency to prepare an initial regulatory flexibility analysis to be published at the time the proposed rule is published. This requirement does not apply if the agency “certifies that the rule will not, if promulgated, have a significant economic impact on a substantial number of small entities” (5 U.S.C. 603). This rule removes one section from title 14 of the CFR and, therefore, does not have a significant economic impact on a substantial number of small entities.

Review Under the Paperwork Reduction Act

This direct final rule does not contain any information collection requirements subject to the Paperwork Reduction Act of 1995 (44 U.S.C. 3501 et seq.).

Review Under E.O. 13132

E.O. 13132, “Federalism,” 64 FR 43255 (August 4, 1999), requires regulations to be reviewed for federalism effects on the institutional interest of states and local governments, and, if the effects are sufficiently substantial, preparation of the Federal assessment is required to assist senior policy makers. The amendments will not have any substantial direct effects on state and local governments within the meaning of the E.O.. Therefore, no federalism assessment is required.

List of Subjects in 14 CFR Part 1204

Administrative practice and procedure, Airports, Authority delegations (Government agencies), Federal buildings and facilities, Government contracts, Government procurement, Intergovernmental relations, Security measures, Small businesses.

Accordingly, under the authority of the National Aeronautics and Space Act, as amended, 51 U.S.C. 20113, NASA amends 14 CFR part 1204 as follows:

PART 1204—ADMINISTRATIVE AUTHORITY AND POLICY

Subpart 14—Use of NASA Airfield Facilities by Aircraft Not Operated for the Benefit of the Federal Government

1. This authority citation for part 1204, subpart 14, continues to read as follows:

Authority: 42 U.S.C. 2473(c)(1).

2. Amend § 1204.1401 by:

a. Removing and reserving paragraphs (a)(1), (3), and (4);

b. Redesignating paragraphs (b) through (g) as paragraph (c) through (h); and

c. Adding new paragraph (b).

The addition reads as follows:

§ 1204.1401 Definitions.

* * * * *

(b) NASA owned but non-NASA operated airfield facility. Those aeronautical facilities owned by NASA but not operated by NASA that consist of the following:

(1) Shuttle Landing Facility (SLF). The aeronautical facility which is a part of the John F. Kennedy Space Center (KSC), Kennedy Space Center, Florida, and is located at 80°41′ west longitude and 28°37′ north latitude.

(2) Moffett Federal Airfield (MFA). The aeronautical facility which is part of the Ames Research Center, Moffett Field, California, and is located at 122°03′ west longitude and 37°25′ north latitude.

* * * * *

3. Amend § 1204.1403 by:

a. Removing and reserving paragraphs (a), (c), and (d); and

b. Revising paragraphs (e) and (f).

The revisions read as follows:

§ 1204.1403 Available airport facilities.

* * * * *

(e) NASA owned but non-NASA operated airfields. (1) Shuttle Landing Facility (SLF) may be made available on an individual emergency basis to a user with prior permission from the airfield operator.

(2) Moffett Federal Airfield (MFA) may be made available on an individual emergency basis to a user with prior permission from the airfield operator.

(3) No facilities or services other than those described in this section are available except on an individual prior permission or emergency basis to any user.

(f) Status of facilities. Changes to the status of the KSC, WFF, and MFA facilities will be published in appropriate current FAA or Department of Defense (DOD) aeronautical publications.

§ 1204.1404 [Amended]

4. Amend § 1204.1404 by removing and reserving paragraphs (a)(1) and (3).

5. Amend § 1204.1405 by revising paragraph (c) to read as follows:

§ 1204.1405 Approving authority.

* * * * *

(c) Moffett Federal Airfield. Chief, Airfield Management Office, Ames Research Center, NASA.

Nanette Smith,
Team Lead, NASA Directives and Regulations.

[FR Doc. 2021-19508 Filed 9-9-21; 8:45 am]

BILLING CODE 7510-13-P